CIVIL RIGHTS COMMISSION

Sunshine Act Meeting Notice

AGENCY: United States Commission on Civil Rights.

ACTION: Notice of commission business meeting; public comment session and written comment submission on Immigration Detention Centers and Treatment of Immigrants.

DATES: Friday, April 12, 2019 at 9:00 a.m. Eastern Daylight Time (EDT); written comment submission through Monday, May 13, 2019.

ADDRESSES: Place: National Place Building, 1331 Pennsylvania Ave. NW, 11th Floor, Suite 1150, Washington, DC 20425 (Entrance on F Street NW).

FOR FURTHER INFORMATION CONTACT: Brian Walch, (202) 376-8371; TTY: (202) 376-8116; publicaffairs@usccr.gov.

SUPPLEMENTARY INFORMATION: This meeting and public comment session is open to the public. There will also be a call-in line for individuals who desire to listen to the meeting: 1-800-682-0995, Conference ID 102-3168. The sessions will also live-stream at https://www.youtube.com/user/USCCR/videos. (Streaming information subject to change.) If attending in person, we ask that you RSVP to publicaffairs@usccr.gov. Persons with disabilities who need accommodation should contact Pamela Dunston at 202-376-8105 or at access@usccr.gov at least seven (7) business days before the date of the meeting.

Meeting Agenda

I. Commission Business Meeting: 9:00 a.m.

II. Public Comment Session: Immigration Detention Centers and Treatment of Immigrants: 10:00 a.m.-11:30 a.m. (end time subject to change).

III. Break: 11:30 a.m.-1:00 p.m. (break start time subject to change).

IV. Commission Subcommittee Meeting: Immigration Detention Centers and Treatment of Immigrants: 1:00 p.m.-2:00 p.m.

Detailed Information

Public Comment Session and Written Comment Submission: Immigration Detention Centers and Treatment of Immigrants

In 2015, the Commission issued a report, With Liberty and Justice for All: The State of Civil Rights at Immigration Detention Facilities. In that report, the Commission specifically addressed the status of detained undocumented immigration children and found substantial questions regarding the compliance of both the Office of Refugee Resettlement of the Department of Health & Human Services (HHS) and the Department of Homeland Security (DHS) with the quality care standards and the terms of the Flores Settlement Agreement for unaccompanied minor children. Further, the Commission examined policies and standards surrounding the detention of families at residential centers operated by DHS.

In 2018, as part of implementing its “zero tolerance” program for border crossings, the federal government began forcibly separating undocumented immigrant children from their parent. After reversing this policy, the federal government stated it would seek legal authority to allow indefinite detention of children and their families. In July 2018, the Commission voted to reopen its investigation on the conditions of immigration detention, and appointed a Subcommittee to examine the issue further. The Commission's Subcommittee has sought information from DHS and HHS, in the form of interrogatories and document requests. The Commission's requests to DHS and HHS are available on our website.

To supplement the solicited information, the Commission's Subcommittee will hold an in-person public comment session on the condition of immigration detention centers and status of treatment of immigrants, including children. This in-person public comment session will take place from 10:00 a.m. to 11:30 a.m. on Friday, April 12, 2019. The Commission Subcommittee seeks to hear from members of the public, including policy advocates, legal experts, affected persons, and other individuals who wish to speak on the issue.

Members of the public will have up to approximately five (5) minutes to address the Commission, with spots allotted on a first-come, first-serve basis. There will be a limited time for the Commissioners to engage in direct dialogue with the members of the public. Individuals will be able to register for speaking slots, both online and at the public comment session (in person).

The event will also live-stream at https://www.youtube.com/user/USCCR/videos. (Streaming information subject to change.) If attending in person, we ask that you RSVP to publicaffairs@usccr.gov. Persons with disabilities who need accommodation should contact Pamela Dunston at 202-376-8105 or at access@usccr.gov at least seven (7) business days before the date of the meeting.

The Commission will provide interpretation services in Spanish. Individuals are also welcome to bring their own interpreters (for Spanish or other languages). Additional time may be allotted to individuals requiring interpretation services, as necessary.

Online registration: On Thursday, April 4, 2019, beginning at 9:00 a.m. EDT, individuals will be able to register to speak online at Eventbrite: https://www.eventbrite.com/e/public-comment-session-immigrant-detention-treatment-tickets-59108479052. This registration option will remain open until all slots are filled, and no later than 5:00 p.m. EDT on Thursday, April 11, 2019. An individual who successfully registers online must be physically present for the public comment session no later than 9:30 a.m. EDT on April 12 (sign-in opens at 9:00 a.m.), or risk forfeiting the individual's speaking slot.

In person registration, Friday, April 12: Individuals will have the opportunity to sign up for a limited number of speaking slots, in person, the day of the public comment session, beginning at 9:00 a.m. on Friday, April 12, 2019. If the online registration spots are not filled, or individuals who signed up online do not appear to claim their spot, these spots will open up to any further interested participants.

Written comments: The Commission also welcomes written submission of material for consideration. Please submit such information no later than May 13, 2019 to immigration@usccr.gov or by mail to: Staff Director/Public Comments, U.S. Commission on Civil Rights, 1331 Pennsylvania Ave. NW, Suite 1150, Washington, DC 20425.

You can stay abreast of updates at: www.usccr.gov, Twitter, and Facebook.

Dated: March 29, 2019.
Brian Walch,
Director, Communications and Public Engagement.

[FR Doc. 2019-06530 Filed 4-1-19; 8:45 am]

BILLING CODE 6335-01-P